DEPARTMENT OF COMMERCE

National Telecommunications and Information Administration

Broadband Data Transparency Workshop

AGENCY: National Telecommunications and Information Administration, U.S. Department of Commerce

ACTION: Notice of Public Meeting.

SUMMARY: The National Telecommunications and Information Administration (NTIA) will host a public meeting regarding data related to broadband Internet access that the agency collects, data needs of researchers, and future broadband research.

DATES: The meeting will be held on October 30, 2009, from 1:00 p.m. to 3:00 p.m. Eastern Daylight Time.

ADDRESSES: The meeting will be held at the U.S. Department of Commerce, National Telecommunications and Information Administration, 1401 Constitution Avenue, NW, Herbert C. Hoover Building, Room 4830, Washington, DC 20230 (please enter at 14th Street). The disability accessible entrance is located at the 14th Street Aquarium Entrance. Any change in the location will be posted on NTIA's website (www.ntia.doc.gov) prior to the meeting.

FOR FURTHER INFORMATION CONTACT: For further information regarding the meeting, contact James McConnaughey, NTIA, at (202) 482-1880 or JMcConnaughey@ntia.doc.gov.

SUPPLEMENTARY INFORMATION: President Obama is committed to the expansion of broadband Internet access across the United States as a necessary part of the foundation for long term economic stability and prosperity.¹ The National Telecommunications and Information Administration (NTIA) is the President's principal adviser on domestic and international communications policies pertaining to the Nation's economic and technological advancement. In order to achieve the technology and broadband goals of the Administration, NTIA is working with the Federal Communications Commission (FCC), the Department of Agriculture's Rural Utilities Service (RUS), and other stakeholders to develop and implement economic and regulatory policies that foster broadband Internet access deployment and adoption. Current and detailed data on broadband Internet use and access by U.S. households is critical to allow policymakers not only to gauge progress made to date, but to identify problem areas.

¹ See Guiding Principles, “Innovation in the Economy: Drive Economic Growth and Solve National Problems by Deploying a 21st Century Information Infrastructure,” http://www.whitehouse.gov/issues/technology.

The purpose of the public meeting is to provide information to the research community regarding the type and availability of broadband data that may be made publicly available for use by the research community, and to hear from this research community with respect to their data needs. NTIA is authorized to conduct studies and evaluations concerning communications research and development and for 15 years, has developed and analyzed Internet data (including more recently the high-speed variety). These activities have provided essential data for prudent policymaking in this area, including fueling the needs of the research community whose work could be invaluable inputs for sound policies. NTIA currently collects broadband related data from several sources. Pursuant to the American Recovery and Reinvestment Act of 2009 (Recovery Act) and the Broadband Data Improvement Act (BDIA), two broadband initiatives within NTIA, the Broadband Technology Opportunities Program (BTOP) and the State Broadband Data and Development Grant Program (State Broadband Data Program), are accumulating a variety of data.² Under the State Broadband Data Program in particular, this includes data that will populate a comprehensive, interactive, and searchable nationwide inventory map of existing broadband service capability and availability in the United States that depicts the geographic extent to which broadband service capability is deployed, available, and adopted from a commercial or public provider throughout each State.³

² Broadband Data Improvement Act, Pub. Law No. 110-385, 122 Stat. 4096, section 106(b) (2008). The Secretary delegated his authority to meet the obligations of section 106 of the BDIA to the Assistant Secretary for Communications and Information on April 9, 2009.

³ Recovery Act, section 6001(l), 123 Stat. at 516.

In October 2009, the Census Bureau collected through the Current Population Survey (CPS) data based on questions that NTIA sponsored and developed to provide up-to-date information on the extent of U.S. broadband adoption and the major reasons why current non-users choose not to adopt. Data have been generated by several demographic and geographic categories and must be weighted and appropriately aggregated before release. Census periodically releases public use files containing the raw data collected.

These various data may be made publicly available for use by the research community to conduct economic, financial, demographic, and other studies. Such release, however, may be limited by such Federal disclosure laws as the Freedom of Information Act and the Trade Secrets Act.

Specific information regarding the status of and data from specific applications for the Broadband Technology Opportunities Program (BTOP) and the State Broadband Data and Development Grant Program (State Broadband Data Program) will not be discussed at the meeting.

Matters to Be Considered: The meeting will include a discussion of the following topics:

1. The types and frequency of broadband Internet access data that NTIA can compile through its ongoing programs and research that will be useful to the research community. For example, NTIA has categories of data from the BTOP and State Broadband Data Program and is gathering information through the next CPS that may be useful to the research community;

2. The current sources of data available to the research community for research related to broadband Internet access;

3. The economic, social, policy, or other areas that research related to broadband Internet access can inform;

4. The emergent themes, trends, and new directions within the research community regarding broadband Internet access data;

5. The data format preferred by researchers including those for distributing broadband-related data on the Web to promote maximum transparency for researchers and the interested public; and

6. The legal requirements regarding the agency's collection of and dissemination of data from third parties.

Time and Date: The meeting will be held on October 30, 2009, from 1:00 p.m. to 3:00 p.m. Eastern Daylight Time. The times and the agenda topics are subject to change. The meeting may be webcast. Please refer to NTIA's web site, http://www.ntia.doc.gov, for the most up-to-date meeting agenda and webcast information.

Place: The meeting will be held at the U.S. Department of Commerce, 1401 Constitution Avenue, NW, Room 4830, Washington, DC 20230. The meeting will be open to the public and press on a first-come, first-served basis. Space is limited. Attendees should bring a photo ID and arrive early to clear security. The public meeting is physically accessible to people with disabilities. Individuals requiring accommodations, such as sign language interpretation or other ancillary aids, are asked to notify Mr. McConnaughey at (202) 482-1880 or JMcConnaughey@ntia.doc.gov, at least five (5) business days before the meeting.

Dated: October 19, 2009.
Kathy D. Smith,
Chief Counsel, National Telecommunications and Information Administration.

[FR Doc. E9-25447 Filed 10-21-09; 8:45 am]

BILLING CODE 3510-60-S